DEPARTMENT OF THE INTERIOR

National Park Service

National Park System Advisory Board; Meeting

AGENCY: National Park Service, Interior.

ACTION: Notice of meeting.

Notice is hereby given in accordance with the Federal Advisory Committee Act, 5 U.S.C. Appendix, that the National Park System Advisory Board will meet June 10-11, 2003, in Cuyahoga Falls, Ohio. On June 10, the Board will tour Cuyahoga Valley National Park areas and will be briefed regarding environmental, education and partnership programs. On June 11, the Board will convene its business meeting at 8:30 a.m., in the Portage Room (lobby level) of the Sheraton Suites—Akron/Cuyahoga Falls, 1989 Front Street, Cuyahoga Falls, Ohio 44221, telephone 330-929-3000. The meeting will be adjourned at 5 p.m. During the morning session, National Park Service Director Fran Mainella will greet the Board, followed by the report of the Board's National Landmarks Committee and the Board's consideration of National Historic Landmark nominations. In the afternoon, the Board will receive reports from its National Parks Science Committee, Education Committee, Strategic Communications Committee, and Partnerships Committee, and will discuss pending business.

Other officials of the National Park Service and the Department of the Interior may address the Board, and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board may also permit attendees to address the Board, but may restrict the length of the presentations, as necessary to allow the Board to complete its agenda within the allotted time.

Anyone who wishes further information concerning the meeting, or who wishes to submit a written statement, may contact Mr. Loran Fraser, Office of Policy, National Park Service; 1849 C Street, NW., Room 7250; Washington, DC 20240; telephone 202-208-7456.

Draft minutes of the meeting will be available for public inspection about 12 weeks after the meeting, in room 7252, Main Interior Building, 1849 C Street, NW., Washington, DC.

Dated: May 5, 2003.
Loran Fraser,
Chief, Office of Policy.

[FR Doc. 03-13336 Filed 5-28-03; 8:45 am]

BILLING CODE 4312-52-P